DEPARTMENT OF HEALTH AND HUMAN SERVICES

Centers for Disease Control and Prevention

[60Day-25-1128; Docket No. CDC-2025-0552]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled State Unintentional Drug Overdose Reporting System (SUDORS). SUDORS is designed to detect new trends in fatal unintentional drug overdoses, support targeting drug overdose prevention efforts, and assess the progress of the HHS initiative to reduce opioid misuse and overdoses.

DATES: CDC must receive written comments on or before December 1, 2025.

ADDRESSES: You may submit comments, identified by Docket No. CDC-2025-0552 by either of the following methods:

• Federal eRulemaking Portal: www.regulations.gov. Follow the instructions for submitting comments.

• Mail: Jeffrey M. Zirger, Information Collection Review Office, Centers for Disease Control and Prevention, 1600 Clifton Road, NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

State Unintentional Drug Overdose Reporting System (SUDORS) (OMB Control No. 0920-1128, Exp. 2/26/2026)—Revision—National Center for Injury Prevention and Control (NCIPC), Centers for Disease Control and Prevention (CDC).

Background and Brief Description

There has been a rapid increase in opioid overdose deaths since 2013. In the United States, more people are now dying of drug overdose than automobile crashes, although opioids—both opioid pain relievers (OPRs) and illicit forms such as heroin—are also a major factor in overdose-related automobile crashes. On October 26, 2017, the U.S. Department of Health and Human Services (HHS) declared the opioid overdose epidemic to be a national public health emergency.

CDC established the State Unintentional Drug Overdose Reporting System (SUDORS) to detect new trends in fatal unintentional drug overdoses, support targeting drug overdose prevention efforts, and assess the progress of the HHS initiative to reduce opioid misuse and overdoses. Respondents are state- or jurisdiction-level health departments. The SUDORS surveillance system generates detailed, timely public health information on unintentional, fatal opioid-related drug overdoses and has been used to inform prevention and response efforts at the national, state, and local levels. SUDORS consolidates and supplements information available to health departments, including vital statistics and records created by medical examiners and coroners (ME/C). SUDORS is built on a web-based software platform and a collaborative surveillance and data integration model developed by CDC and health departments to improve understanding of homicide, suicide, undetermined deaths, and unintentional firearm deaths (National Violent Death Reporting System (NVDRS), OMB No. 0920-0607.

Through SUDORS, CDC currently collects information that is not provided on death certificates, such as whether the drug(s) causing the overdoses were injected or taken orally; a toxicology report on the decedent, if available; and risk factors for fatal drug overdoses including previous drug overdoses, decedent's mental health, and whether the decedent recently exited a treatment program. Without this information, efforts to prevent drug overdose deaths are often based on limited information available on the death certificate and anecdotal evidence.

This is a Revision request for the currently approved State Unintentional Drug Overdose Reporting System (SUDORS) (OMB Control No. 0920-1128, Exp. 2/28/2026. With this Revision, CDC is requesting OMB approval for an additional three years to continue data collection efforts. This Revision request does not entail a change in the estimated burden per response, which is based on the time needed for a health department to retrieve and refile vital statistics records, ME/C records, etc. The estimated burden per response does not include the time needed to abstract SUDORS data variables from those sources, since this activity is funded by the SUDORS cooperative agreement. CDC requests OMB approval for an estimated 43,631 annualized burden hours. There is no cost to respondents other than their time to participate.

Estimated Annualized Burden Hours
Type of respondent | Form name | Number of respondents | Total number of responses per respondent | Average burden per response (in hours) | Total burden hours (in hours)
Public Agencies | Retrieving and refiling records | 51 | 1,711 | 30/60 | 43,631
Total |  |  |  |  | 43,631

Jeffrey M. Zirger,
Lead, Information Collection Review Office, Office of Public Health Ethics and Regulations, Office of Science, Centers for Disease Control and Prevention.

[FR Doc. 2025-18905 Filed 9-29-25; 8:45 am]

BILLING CODE 4163-18-P